DEPARTMENT OF COMMERCE

Economic Development Administration

[Docket No.: 0907091111-91111-01]

Solicitation of Applications for the National Technical Assistance, Training, Research and Evaluation Program: Economic Development District Partnership Planning Program and CEDS Research Project

AGENCY: Economic Development Administration, Department of Commerce.

ACTION: Notice and request for applications.

SUMMARY: The Economic Development Administration (EDA) is soliciting applications for FY 2009 National Technical Assistance, Training, Research and Evaluation (NTA) Program funding. Through this notice, EDA solicits applications to fund a research project to assess the effectiveness of EDA's Economic Development District (EDD) Partnership Planning Program and the quality of Comprehensive Economic Development Strategies (CEDS). EDA's mission is to lead the federal economic development agenda by promoting innovation and competitiveness, preparing American regions for growth and success in the worldwide economy. Through its NTA Program, EDA works towards fulfilling its mission by funding research and technical assistance projects to promote competitiveness and innovation in rural and urban regions throughout the United States and its territories. By working in conjunction with its research partners, EDA will help States, local governments, and community-based organizations to achieve their highest economic potential.

DATES: The closing date and time for receipt of applications for funding under the FY 2009 NTA Program competition is September 8, 2009 at 5 p.m. Eastern Time.

Application Submission Requirements: Applicants are advised to read carefully the instructions contained in section IV. of the complete federal funding opportunity (FFO) announcement for this request for applications. For a copy of the FFO announcement, please see the Web sites listed below under “Electronic Access.”

Applications may be submitted in two formats: (i) Electronically in accordance with the procedures provided on http://www.grants.gov or submitted via e-mail to the address provided below in “Electronic Submissions;” or (ii) in paper format at the addresses provided below. EDA will not accept facsimile transmissions of applications. The content of the application is the same for paper submissions as it is for electronic submissions.

Applicants applying electronically through http://www.grants.gov or via e-mail may access the application package by following the instructions provided on http://www.grants.gov. You may obtain paper application packages by contacting the designated point of contact listed below under FOR FURTHER INFORMATION CONTACT.

Electronic Submissions: Applicants have two options for submitting electronically: through http://www.grants.gov or via e-mail. EDA strongly encourages that applicants not wait until the application closing date to begin the application process through http://www.grants.gov. Applicants also may e-mail completed application packages to Hillary Sherman at HSherman@eda.doc.gov. The preferred file format for electronic attachments (e.g., the Project Narrative and attachments to Form ED-900) is portable document format (PDF); however, EDA will accept electronic files in Microsoft Word, WordPerfect, or Excel formats.

For additional information regarding electronic submissions, please access the following link for assistance in navigating www.grants.gov and for a list of useful resources: http://www.grants.gov/applicants/applicant_help.jsp. If you do not find an answer to your question under Frequently Asked Questions, try consulting the Applicant's User Guide. If you still cannot find an answer to your question, contact http://www.grants.gov via e-mail at support@grants.gov or telephone at 1-800-518-4726. The hours of operation for http://www.grants.gov are Monday-Friday, 7 a.m. to 9 p.m. Eastern Time (except for federal holidays).

Paper Submissions: Paper (hardcopy) applications submitted under the NTA Program may be hand-delivered or mailed to: FY 2009 Economic Development Research Project Competition, Hillary Sherman, Program Analyst, Economic Development Administration, U.S. Department of Commerce, 1401 Constitution Avenue, NW., Room 7009, Washington, DC 20230.

Applicants are advised that, due to mail security measures, EDA's receipt of mail sent via the United States Postal Service may be substantially delayed or suspended in delivery. Applicants may wish to use a guaranteed overnight delivery service.

FOR FURTHER INFORMATION CONTACT: For additional information on the NTA Program or to obtain paper application packages for this notice, please contact Hillary Sherman, Program Analyst, via e-mail at HSherman@eda.doc.gov (preferred) or by telephone at (202) 482-3357.

Additional information about EDA and its NTA Program may be obtained from EDA's Internet Web site at http://www.eda.gov. The complete FFO announcement for this request for applications is available at http://www.grants.gov and at http://www.eda.gov.

SUPPLEMENTARY INFORMATION:

Background Information: EDA is soliciting applications for an economic development research project to evaluate the effectiveness of EDA's EDD Partnership Planning Program and to assess the effectiveness of CEDS documents. The proposed project consists of two phases: Phase I—EDD Effectiveness Evaluation and Phase II—CEDS Quality Assessment. EDA anticipates that evaluating the EDDs and CEDS and identifying best practices for both will enhance the effectiveness of the agency's Partnership Planning Program and the ability of Program recipients to produce positive economic outcomes.

About EDDs. EDA provides Partnership Planning grants to over 370 EDDs to enable each to manage and coordinate the development and implementation of a CEDS to address the unique needs of an EDD's region. In addition, EDDs organize and assist with the implementation of economic development activities within their regions. EDDs work in a wide variety of environments that may be influenced by a number of factors, including population density (such as urban, suburban, metro-rural, and non metro-rural) and available human and financial resources.

About CEDS. Each CEDS results from a local or regional comprehensive strategic planning process and is designed to serve as guide for local practitioners seeking to leverage their region's assets, create thriving clusters of innovation, and address potential threats to economic stability and growth. In short, the CEDS serves as a regional economic development “cookbook.” It describes regional assets, assesses opportunities, and addresses regional challenges over a five-year horizon.

EDA recognizes that exogenous factors such as available human, natural, and fiscal resources, may impact economic outcomes regardless of EDD performance or the quality of a CEDS. However, the agency continues to find that, all else equal, improved EDD performance and CEDS quality increase the probability of improved economic development outcomes. The recipient of the award will be expected to undertake and complete both phases. EDA expects methodologically rigorous applications capable of producing peer-review quality research that advances the understanding and skills of economic development practitioners, while providing practitioner-accessible tools. Additionally, the outcomes from this research should build upon the findings and work products from previous EDA research, including the work on industry and occupational clusters conducted by Purdue University and the Indiana Business Research Center (available at http://www.statsamerica.org/innovation/) and work on regional strategic planning conducted by Western Carolina University (available at http://knowyourregion.wcu.edu/).

During Phase I: EDD Effectiveness Evaluation, the recipient will (i) Determine and report on the characteristics and components of effective EDDs; (ii) develop and test an EDD Evaluation Tool that will assess these characteristics and components; and (iii) report to EDA on recommended methods to improve EDD performance. During Phase II: CEDS Quality Assessment, the recipient will (i) assess and report on the effectiveness of the CEDS document; (ii) develop and test a CEDS Assessment Tool for CEDS documents; and (iii) report to EDA on recommended methods to improve CEDS guidance and requirements. At the completion of both phases, EDA anticipates that the recipient will provide training to local planning organizations, EDDs, and EDA staff. Please see the FFO announcement for this request for applications for more detailed information on the project phases and the required tasks under each.

Any information disseminated to the public under this request for applications is subject to the Information Quality Act (Pub. L. 106-554). Applicants are required to comply with the Information Quality Guidelines issued by EDA pursuant to the Information Quality Act, which are designed to ensure and maximize the quality, objectivity, utility and integrity of information disseminated by EDA. These guidelines are available on EDA's Web site at http://www.eda.gov.

Electronic Access: The complete FFO announcement for the FY 2009 Economic Development District Partnership Planning Program and CEDS Research Project competition is available at http://www.grants.gov and at http://www.eda.gov/InvestmentsGrants/FFON.xml.

Funding Availability: EDA may use funds appropriated under the FY 2009 Omnibus Appropriations Act (Pub. L. 111-8, 123 Stat. 524 (2009)) to make awards under the NTA Program. Approximately $1,000,000 is available, and shall remain available until expended, for funding awards under the NTA Program in FY 2009, including $460,000 in FY 2009 appropriations for economic development research.

Statutory Authority: The authority for the NTA Program is the Public Works and Economic Development Act of 1965, as amended (42 U.S.C. 3121 et seq.) (PWEDA). The specific authority for the Economic Development Research Projects Program is section 207 of PWEDA (42 U.S.C. 3147), which authorizes EDA to make grants for training, research, and technical assistance. EDA's regulations at 13 CFR parts 300-302 and subpart A of 13 CFR part 306 set forth the general and specific regulatory requirements applicable to the NTA Program.

The regulations and PWEDA are accessible on EDA's Internet Web site at http://www.eda.gov/InvestmentsGrants/Lawsreg.xml.

Catalog of Federal Domestic Assistance (CFDA) Numbers: 11.303, Economic Development—Technical Assistance; 11.312, Economic Development—Research and Evaluation.

Applicant Eligibility: Pursuant to PWEDA, eligible applicants for and recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; and a public or private non-profit organization or association.For-profit, private-sector entities also are eligible for investment assistance under the NTA program to carry out specific research or for other purposes set forth in 13 CFR 306.1. See also 42 U.S.C. 3147.

Project Period: EDA anticipates a two-year project period. Typically, EDA gives a recipient one year from the award date to complete the scope of work, which consists of completing all tasks under both project phases. EDA anticipates that Phase I will be completed approximately half way through the first year of the project period and that Phase II will be completed by the end of the first year of the project period. It is expected that the second year of the project period will consist of the training component after completion of the two phases.

A typical research project period begins with an initial meeting (kickoff meeting) between the recipient and EDA staff to ensure that all parties agree with the project terms. After the kickoff meeting, the recipient generally submits a final work plan to EDA staff for review and approval. Throughout the project period there will be regular contact between EDA staff and the recipient for updates on project progress. Interim progress reports are required throughout the project period. The schedule of interim progress reports will be determined subsequent to award.

Cost Sharing Requirement: Generally, the amount of the EDA grant may not exceed fifty percent of the total cost of the project. Projects may receive an additional amount that shall not exceed thirty percent, as determined by EDA, based on the relative needs of the region in which the project will be located. See section 204(a) of PWEDA (42 U.S.C. 3144) and 13 CFR 301.4(b)(1). The Assistant Secretary of Commerce for Economic Development has the discretion to establish a maximum EDA investment rate of up to one-hundred percent where the project: (i) Merits and is not otherwise feasible without an increase to the EDA investment rate; or (ii) will be of no or only incidental benefit to the recipient. See section 204(c)(3) of PWEDA (42 U.S.C. 3144) and 13 CFR 301.4(b)(4).

EDA will consider the nature of the contribution (cash or in-kind), the amount of any matching share funds, and fairly assess any in-kind contributions in evaluating the cost to the Government and the feasibility of the project budget (see the “Evaluation Criteria” section below). While cash contributions are preferred, in-kind contributions, fairly evaluated by EDA, may provide the non-federal share of the total project cost. See section 204(b) of PWEDA (42 U.S.C. 3144) and section III.B. of the FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications under the NTA Program are not subject to Executive Order 12372, “Intergovernmental Review of Federal Programs.”

Evaluation and Selection Procedures: To apply for an award under this request for applications, an eligible applicant must submit a completed application package to EDA before the closing date and time specified in the DATES section of this notice, and in the manner provided in section IV. of the applicable FFO announcement. Any application received or transmitted, as the case may be, after 5 p.m. Eastern Time on September 8, 2009 will not be considered for funding. Applications that do not include all items required or that exceed the page limitations set forth in section IV.B. of the FFO announcement will be considered non-responsive and will not be considered by the review panel. Applications that meet all the requirements will be evaluated by a review panel comprised of at least three full-time federal employees, of whom at least one shall be an EDA employee. The review panel's rating and ranking of the applications will be presented to the Assistant Secretary, who is the Selecting Official. By September 30, 2009, EDA expects to notify the applicant selected for investment assistance under this notice.

Evaluation Criteria: The review panel will evaluate the applications and rate and rank them using the following criteria of approximate equal weight:

(1) Conformance with EDA's statutory and regulatory requirements, including the extent to which the proposed project satisfies the award requirements set out below and as provided in 13 CFR 306.2:

• Strengthens the capacity of local, State, or national organizations and institutions to undertake and promote effective economic development programs targeted to regions of distress;

• Benefits distressed regions; and

• Demonstrates innovative approaches to stimulate economic development in distressed regions.

(2) The degree to which an EDA investment will have strong organizational leadership, relevant project management experience, and a significant commitment of human resources talent to ensure the project's successful execution (see 13 CFR 301.8(b)).

(3) The ability of the applicant to implement the proposed project successfully (see 13 CFR 301.8).

(4) The clarity, precision, and applicability of the research methods proposed.

(5) The clarity, precision, and applicability of the analytical methods proposed.

(6) The clarity, precision, and applicability of the survey and sampling methods proposed.

(7) The feasibility of the budget presented.

(8) The cost to the Federal Government, using the best value to the government

For purposes of this request for applications, EDA will consider only applications submitted by applicants with the current capacity to undertake research that advances economic development practice and theory, and that have the potential for impact on a regional or national scale. See section 3 of PWEDA (42 U.S.C. 3122) and 13 CFR 300.3 and 306.2. The addition of research and project data to an existing Web site or the design of a companion Web site to disseminate the results of each research study and provide links to data encapsulated in reports free of charge is preferred.

Selection Factors: The Assistant Secretary, as the Selecting Official, expects to fund the highest ranking applications, as recommended by the review panel, submitted under this request for applications. However, if EDA does not receive satisfactory applications, the Assistant Secretary may not make any selection. Depending on the quality of the applications received, the Assistant Secretary may select more than one application for one research project and make no selection for another research project. Also, he may select an application out of rank order for the following reasons: (1) A determination that the selected application better meets the overall objectives of sections 2 and 207 of PWEDA (42 U.S.C. 3121 and 3147); (2) the applicant's performance under previous awards; or (3) the availability of funding.

The Department of Commerce Pre-Award Notification Requirements for Grants and Cooperative Agreements

Administrative and national policy requirements for all Department of Commerce awards are contained in the Department of Commerce Pre-Award Notification Requirements for Grants and Cooperative Agreements, published in the Federal Register on February 11, 2008 (73 FR 7696). This notice may be accessed through the Federal Register Internet Web site at http://www.gpoaccess.gov/fr/retrieve.html, making sure the radial button for the correct Federal Register volume is selected (here, 2008 Federal Register, Vol. 73), entering the Federal Register page number provided in the previous sentence (7696), and clicking the “Submit” button.

Paperwork Reduction Act

This request for applications contains collections of information subject to the requirements of the Paperwork Reduction Act (PRA). The Office of Management and Budget (OMB) has approved the use of Form ED-900 (Application for Investment Assistance) under control number 0610-0094. Forms SF-424 (Application for Federal Assistance); SF-424A (Budget Information—Non-Construction Programs, and SF-424B (Assurances—Non-Construction Programs) are approved under OMB control numbers 4040-0004, 4040-0006, and 4040-0007, respectively. Notwithstanding any other provision of law, no person is required to respond to, nor shall any person be subject to a penalty for failure to comply with, a collection of information subject to the requirements of the PRA unless the collection of information displays a currently valid OMB control number.

Executive Order 12866

This notice has been determined to be not significant for purposes of Executive Order 12866, “Regulatory Planning and Review.”

Executive Order 13132

It has been determined that this notice does not contain “policies that have Federalism implications,” as that phrase is defined in Executive Order 13132, “Federalism.”

Administrative Procedure Act/Regulatory Flexibility Act

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: July 22, 2009.
Dennis Alvord,
Acting Deputy Assistant Secretary of Commerce for Economic Development.

[FR Doc. E9-17821 Filed 7-24-09; 8:45 am]

BILLING CODE 3510-24-P